DEPARTMENT OF DEFENSE

Department of the Air Force

Record of Decision for the White Elk Military Operations Area White Pine and Elko Counties, Nevada Final Environmental Impact Statement

ACTION: Notice of Availability (NOA) of a Record of Decision (ROD).

SUMMARY: On November 4, 2011, the United States Air Force signed the ROD for the White Elk Military Operations Area (MOA) as a result of findings in the Final Environmental Impact Statement (EIS) dealing with airspace over White Pine and Elko Counties, Nevada. The ROD states the Air Force decision to select the Proposed Action to establish the White Elk MOA airspace adjacent to the Utah Test and Training Range over White Pine County and Elko County in eastern Nevada along with the authorization of supersonic operations in the overlying Currie/Tippet Air Traffic Control Assigned Airspace (ATCAA) and use of training chafe and flare in the White Elk MOA and Currie/Tippet ATCAA airspace.

The decision was based on matters discussed in the Final EIS, inputs from the public and regulatory agencies, and other relevant factors. The Final EIS was made available to the public on May 20, 2011 through a NOA in the Federal Register (Volume 76, Number 98, Page 29241) with a wait period that ended on June 20, 2011. The ROD documents only the decision of the Air Force with respect to the proposed Air Force actions analyzed in the Final EIS.

Authority: This NOA is published pursuant to the regulations (40 CFR Part 1506.6) implementing the provisions of the NEPA of 1969 (42 U.S.C. 4321, et seq.) and the Air Force's Environmental Impact Analysis Process (EIAP) (32 CFR Parts 989.21(b) and 989.24(b)(7)).

FOR FURTHER INFORMATION CONTACT: Mr. Nicholas M. Germanos, 129 Andrews Street, Suite 332, Langley AFB, VA; (757) 764-9334.

Shannon N. Sanchez,
Acting Air Force Federal Register Liaison Officer.

[FR Doc. 2012-2644 Filed 2-3-12; 8:45 am]

BILLING CODE 5001-10-P